DEPARTMENT OF COMMERCE

National Oceanic and Atmospheric Administration

15 CFR Part 922

[Docket No. 100908440-1615-01]

RIN 0648-BA24

Proposed Expansion of Fagatele Bay National Marine Sanctuary, Regulatory Changes, and Sanctuary Name Change

AGENCY: Office of National Marine Sanctuaries (ONMS), National Ocean Service (NOS), National Oceanic and Atmospheric Administration (NOAA), Department of Commerce (DOC).

ACTION: Re-opening of public comment period.

SUMMARY: On October 21, 2011, NOAA published a proposed rule in the Federal Register to revise the regulations for the Fagatele Bay National Marine Sanctuary (76 FR 65566). This notice re-opens the public comment period stated in that proposed rule until March 9, 2012.

DATES: NOAA will accept public comments on the proposed rule published at 76 FR 65566 (October 21, 2011) through March 9, 2012.

ADDRESSES: The instructions for submitting comments are detailed in the proposed rule published on October 21, 2011 (76 FR 65566).

FOR FURTHER INFORMATION CONTACT: Gene Brighouse at (684) 633-7792.

Dated: January 17, 2012.
Daniel J. Basta,
Director, Office of National Marine Sanctuaries.

[FR Doc. 2012-1499 Filed 1-24-12; 8:45 am]

BILLING CODE 3510-NK-P